POSTAL SERVICE

39 CFR Part 111

Overweight Parcels

AGENCY: Postal Service™.

ACTION: Request for comments.

SUMMARY: The Postal Service is contemplating amendment of the Mailing Standards of the United States Postal Service, Domestic Mail Manual (DMM®), to address the challenges presented by overweight parcels that make their way into the postal network. To aid us in this effort, we are requesting comments from the postal community regarding a variety of suggested actions to resolve or ameliorate this problem. Overweight parcels for the purpose of this notice are defined as anything in excess of 70 pounds or the maximum weight allowed for HAZMAT.

DATES: Submit comments on or before November 2, 2017.

ADDRESSES: Mail or deliver written comments to the manager, Product Classification, U.S. Postal Service, 475 L'Enfant Plaza SW., Room 4446, Washington, DC 20260-5015. If sending comments by email, include the name and address of the commenter and send to ProductClassification@usps.gov, with a subject line of “Overweight Parcels.” Faxed comments are not accepted.

You may inspect and photocopy all written comments, by appointment only, at USPS® Headquarters Library, 475 L'Enfant Plaza SW., 11th Floor North, Washington, DC 20260. These records are available for review on Monday through Friday, 9 a.m.-4 p.m., by calling 202-268-2906.

FOR FURTHER INFORMATION CONTACT: Direct questions or comments to Lizbeth J. Dobbins by email at lizbeth.j.dobbins@usps.gov or phone (202) 268-3789.

SUPPLEMENTARY INFORMATION:

The Challenge of Overweight Parcels

Overweight parcels should never be accepted for delivery into the postal network. On occasion an item, such as a returns parcel, gets into the Postal network and arrives at a destination plant or post office. It is unsafe to return the item back through the postal network so the receiving office contacts the customer and asks the customer to pick up the package. Sometimes the package is abandoned which creates another safety issue trying to dispose of the overweight item.

Part of the challenge is that we do not want overweight items at any time since these items cause numerous safety issues and we strongly discourage mailers from entering them into the postal system. We do not accept them at postal retail counters either and yet, these items still get into the postal system.

In order to discourage unsafe practices, the Postal Service is seeking input from the mailing community about how to prevent overweight packages from entering the postal system, and if they get into the postal system, the appropriate postage to be paid. The maximum weight for postage payment is 70 pounds.

Suggested Remedies

One partial remedy would be to assess additional postage on overweight parcels discovered in the postal network. Thus, if a package weight is 75 pounds, and it arrives at the destination office, with postage calculated at 70 pounds, an additional 5 pounds worth of postage could be collected (70 plus 5). Or if the item is 80 pounds, postage would be collected on the additional 10 pounds. This would appear to provide the Postal Service with at least some degree of reimbursement for the extra service provided.

As a further deterrent, another possibility would be to charge not only additional postage, but an additional penalty fee (perhaps $20.00). Thus, for an 80 pound parcel the total amount due would include the postage payment for 70 pounds, a postage surcharge for the additional 10 pounds and a $20 penalty.

Since HAZMAT parcels have lower maximum weight limits, and overweight HAZMAT parcels may pose additional safety challenges, it would seem appropriate to provide an additional element of deterrence with regard to the mailing of such items. Thus, for example, if a 65-pound HAZMAT package exceeded the maximum weight limit of 25 pounds, the amount due might include not only the postage on the actual weight of the package, but an additional surcharge of $20.00 for each 10 pounds (or fraction thereof) in excess of the applicable weight limit.

We look forward to feedback on this important safety issue.

Stanley F. Mires,
Attorney, Federal Compliance.

[FR Doc. 2017-21150 Filed 10-2-17; 8:45 am]

BILLING CODE 7710-12-P